DEPARTMENT OF HEALTH AND HUMAN SERVICES

Centers for Disease Control and Prevention

[Program Announcement 01028]

Notice of Availability of Funds; National Association of County and City Health Officials to Improve the Nation's Public Health Infrastructure with Local Public Health Agencies/Systems

A. Purpose

The Centers for Disease Control and Prevention (CDC) announces the availability of fiscal year (FY) 2001 funds for a cooperative agreement program entitled “Improving the Nation's Public Health Infrastructure.” This program addresses the “Healthy People 2010” priority focus area of Public Health Infrastructure. For a copy of “Healthy People 2010,” visit the web site—http://www.health.gov/healthypeople.

The purpose of this cooperative agreement program is to improve the Nation's public health infrastructure and improve the performance of public health agencies by:

1. Developing and/or implementing strategies to encourage the development and use of standards for public health organizations, the public health workforce, and public health information systems;

2. Developing and/or implementing strategies to inform the public health community about effective approaches to improving public health organizations, the public health workforce, and public health information systems; and

3. Conducting activities to encourage the public health community to implement the most effective approaches to improving public health organizations, the public health workforce, and public health information systems.

B. Eligible Applicants

Assistance will be provided only to the National Association of County and City Health Officials (NACCHO). No other applications are solicited. NACCHO is uniquely qualified to be the recipient organization for the following reasons:

1. Local public health agencies are at the core of the Nation's public health infrastructure. NACCHO is the only national organization that represents the interests of local public health agencies throughout the Nation. It's mission is to promote national policy, develop resources and programs, and support the development of effective local public health practice and systems that protect and improve the health of communities.

2. While NACCHO is organized to serve the needs of local public health agencies, it has adopted a policy which states, “NACCHO's core work is directed at improving the capacity of local public health systems to provide all of the essential services, and to be effective at improving the community's health status * * * To that end, one of NACCHO's more significant roles is to provide local public health agencies with tools, services, training, and technical assistance needed for effective partnering, coalition building, and community process facilitation as they promote community ownership of health status improvements.”

3. NACCHO maintains and updates the only comprehensive listing of local health departments in the United States and communicates with those health departments via “NACCHO News” (bi-monthly newsletter which is sent to all local public health agencies), “Membership Monthly” (monthly newsletter which is sent to NACCHO member health departments), and its web site.

4. In addition, NACCHO provides current public health information and educational opportunities to key local health department personnel at its annual educational conference.

5. NACCHO has a proven track record of collaborating with CDC and other public health organizations to successfully conduct projects to improve the practice of public health throughout the Nation.

Note: Public Law 104-65 states that an organization, described in section 501(c)(4) of the Internal Revenue Code of 1986 that engages in lobbying activities is not eligible to receive Federal funds constituting an award, grant, cooperative agreement, contract, loan, or any other form.

C. Availability of Funds

Approximately $1,833,645 is available in FY 2001 to fund this award. It is expected that the award will begin on or about June 1, 2001, and will be made for a 12-month budget period within a project period of up to five years. Funding estimates may change.

Continuation awards within an approved project period will be made on the basis of satisfactory progress as evidenced by required reports and the availability of funds.

During the first year, funds are expected to be available to support the projects/activities listed in Part D.1. below as follows:

1. Core Activities—$100,000

2. Special Projects 1, 6, and 7—$433,981

3. Special Project 3 (info and communication systems)—$100,000

4. Special Project 4 (leadership development)—$33,6645; Special Project 10 (environmental health) (PACE-EH Implementation)—$265,000; (Improving EH policy, competency, and practice)—$322,000

6. Special Project 11 (bioterrorism) (Centers for Public Health Preparedness)—$210,000; (National Pharmaceutical Stockpile)—$50,000

7. Special Project 12 (chronic disease prevention)—$150,000

8. Special Project 13 (tobacco prevention and control)—$115,000

9. Special Project 14 (injury prevention and control)—$7,000

10. Special Project 16 (strategic planning)—$47,000

Use of Funds

Funds may be spent for reasonable program purposes, including personnel, travel, supplies, and services. Equipment may be purchased, with appropriate justification, including cost comparison of purchase with lease. Although contracts with other organizations are allowable, NACCHO must perform a substantial portion of activities for which funds are requested. NACCHO may provide funds to its affiliated organizations to accomplish the purposes of the cooperative agreement, if justified. Cooperative agreement funds may not supplant existing funds from any other public or private source. Funds may not be expended for construction, renovation of existing facilities, or relocation of headquarters, affiliates, or personnel.

D. Where To Obtain Additional Information

To obtain additional business management information, contact: Juanita D. Crowder, Grants Management Specialist, Grants Management Branch, Procurement and Grants Office, Centers for Disease Control and Prevention, 2920 Brandywine Road, Room 3000, Atlanta, GA 30341-4146. Telephone number: 770-488-2734. E-Mail Address: jcrowder@cdc.gov.

To obtain additional programmatic information, contact: Anthony J. Santarsiero, Division of Public Health Systems Development and Research, Public Health Practice Program Office, Centers for Disease Control and Prevention, 4770 Buford Highway, N.E. (MailStop K-37), Atlanta, GA 30341-3717. Telephone: 770-488-2444. E-Mail: asantarsiero@cdc.gov.

Dated: March 29, 2001.
John L. Williams,
Director, Procurement and Grants Office, Center for Disease Control and Prevention (CDC).

[FR Doc. 01-8228 Filed 4-3-01; 8:45 am]

BILLING CODE 4163-18-P